FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted—September 1, 2012 Through September 30, 2012
09/04/2012
20121107 | G | St. Joseph Health System; Hoag Memorial Hospital Presbyterian St. Joseph Health System.
20121291 | G | William Goldring; OCM Luxembourg Spirits Holdings Sarl; William Goldring.
09/05/2012
20121224 | G | The Dai-ichi Life Insurance Company, Limited; Janus Capital Group Inc.; The Dai-ichi Life Insurance Company, Limited.
20121269 | G | China National Offshore Oil Corporation; Nexen Inc. China National Offshore Oil Corporation.
20121290 | G | Loews Corporation; PL Logistics LLC; Loews Corporation.
09/06/2012
20121251 | G | Bain Capital Partners Asia II, L.P.; Genpact Limited; Bain Capital Partners Asia II, L.P.
20121252 | G | Bain Capital Partners X, L.P.; Genpact Limited; Bain Capital Partners X, L.P.
20121263 | G | Optima Group LLC; Georgian American Alloys, Inc.; Optima Group LLC.
09/10/2012
20121236 | G | McKesson Corporation; NRE Holding Corporation; McKesson Corporation.
20121248 | G | Blackstone Capital Partners VI, L.P.; Knight Capital Group, Inc.; Blackstone Capital Partners VI, L.P.
20121293 | G | Calumet Specialty Products Partners, L.P.; Connacher Oil and Gas Limited; Calumet Specialty Products Partners, L.P.
20121294 | G | Griffey Investors, L.P.; Abe Investment, L.P.; Griffey Investors, L.P.
20121302 | G | Arrow Electronics. Inc.; John F. Baker (Micro Electronics, Inc.); Arrow Electronics, Inc.
20121303 | G | Wind Point Partners L.P.; Mistral Equity Partners, LP; Wind Point Partners VII-A, L.P.
20121307 | G | Roark Capital Partners III LP; Sentinel Capital Partners IV, L.P.; Roark Capital Partners III LP.
20121309 | G | IAC/InterActiveCorp; The New York Time Company; IAC/InterActiveCorp.
20121315 | G | American Securities Partners VI, L.P.; HHI Group Holdings, LLC; American Securities Partners VI, L.P.
20121317 | G | FMC Technologies, Inc.; Pure Energy Services Ltd.; FMC Technologies, Inc.
20121318 | G | GA Trinet, LLC; Marc A. Utay; GA Trinet, LLC.
09/12/2012
20121324 | G | Tech Mahindra Limited; Tech Mahindra Limited; Tech Mahindra Limited.
09/13/2012
20121313 | G | Cidron Healthcare Topco Limited; Cortec Group Fund IV, L.P.; Cidron Healthcare Topco Limited.
20121321 | G | CCMP Capital Investors II, L.P.; SKM Equity Fund III, L.P.; CCMP Capital Investors II, L.P.
09/14/2012
20121275 | G | James Richardson & Sons, Limited; Glencore International plc; James Richardson & Sons, Limited.
20121305 | G | Tornier N.V.; OrthoHelix Surgical Designs, Inc.; Tomier N.V.
20121320 | G | UnitedHealth Group Incorporated; Quality Software Services, Inc.; UnitedHealth Group Incorporated.
20121327 | G | Andritz AG; Schuler AG Andritz AG.
20121329 | G | MJM 2012 Annuity Trust; Universal Truckload Services, Inc.; MJM 2012 Annuity Trust.
20121337 | G | Leeds Equity Partners V, L.P.; The Fourth Viscount Rothermere; Leeds Equity Partners V, L.P.
20121340 | G | Dakota Holdings, LLC; Laurence LeJeune; Dakota Holdings, LLC.
20121341 | G | Stephen A. Wynn; Wynn Resorts, Limited; Stephen A. Wynn.
20121345 | G | GS Apple Investors 2011, LLC; AmRest Holdings SE; GS Apple Investors 2011, LLC.
20121350 | G | Olympus Growth Fund V, L.P.; Seven Mile Capital Founders Fund, L.P.; Olympus Growth Fund V, L.P.
09/17/2012
20121332 | G | Olympus Growth Fund IV, L.P.; Hi-Tech Holdings, Inc.; Olympus Growth Fund IV, L.P.
20121335 | G | Clayton, Dubilier & Rice Fund VIII. L.P.; Green Equity Investors IV, L.P.; Clayton, Dubilier & Rice Fund VIII, L.P.
20121342 | G | Onex Partners III LP; Court Square Capital Partners, L.P.; Onex Partners III LP.
09/18/2012
20121355 | G | International Business Machines Corporation; Kenexa Corporation; International Business Machines Corporation.
20121357 | G | Enstar Group Limited; SeaBright Holdings, Inc.; Enstar Group Limited.
09/19/2012
20121331 | G | Berkshire Hathaway Inc.; Nochi Dankner; Berkshire Hathaway Inc.
09/20/2012
20121295 | G | Corvex Master Fund LP; Ralcorp Holdings, Inc.; Corvex Master Fund LP.
20121349 | G | John B. Zachry; J.V. Holdings; John B. Zachry.
09/21/2012
20121270 | G | NRG Energy, Inc.; GenOn Energy, Inc.; NRG Energy, Inc.
20121338 | G | Johnson & Johnson; Genmab A/S; Johnson & Johnson.
20121347 | G | DCP Funding LLC; Red Zone Capital Partners II, L.P.; DCP Funding LLC.
20121351 | G | FR XII Alpha AIV, L.P.; TPC Group Inc.; FR XII Alpha AIV, L.P.
20121352 | G | Edward S. Lampert; Sears Holdings Corporation; Edward S. Lampert.
20121353 | G | ESL Partners, L.P.; Sears Holdings Corporation; ESL Partners L.P.
20121361 | G | William Dillard, II; W.D. Company, Inc.; William Dillard, II.
20121362 | G | Alex Dillard; W.D. Company Inc.; Alex Dillard.
20121364 | G | Apollo Investment Fund VII, L.P.; Jimmy Sanders Incorporated; Apollo Investment Fund VII, L.P.
20121366 | G | Journal Communications, Inc.; Landmark Media Enterprises, LLC; Journal Communications, Inc.
20121368 | G | Carlyle Partners V Cayman L.P.; E.I. du Pont de Nemours and Company; Carlyle Partners V Cayman L.P.
09/24/2012
20121278 | G | Deutsche Telekom AG; AT&T Inc.; Deutsche Telekom AG.
20121279 | G | AT&T Inc.; Deutsche Telekom AG; AT&T Inc.
20121344 | G | Seven Bank, Ltd.; Marlin Equity II, L.P.; Seven Bank, Ltd.
09/25/2012
20121308 | G | Thoma Bravo Fund X, L.P.; New Mountain Partners II, L.P.; Thoma Bravo Fund X, L.P.
20121322 | G | Nuance Communications, Inc.; Francisco Partners II, L.P.; Nuance Communications, Inc.
20121371 | G | Perrigo Company; James E. Sowell; Perrigo Company.
09/26/2012
20121281 | G | Tokyo Electron Limited; FSI International, Inc.; Tokyo Electron Limited.
20121354 | G | FormFactor, Inc.; Astria Semiconductor Holdings, Inc.; FormFactor, Inc.
20121365 | G | ABRY Partners VII, L.P.; Source Medical Solutions, Inc.; ABRY Partners VII, L.P.
20121367 | G | Blackstone RGIS Capital Partners V L.P.; Nautic Partners V, L.P.; Blackstone RGIS Capital Partners V L.P.
09/27/2012
20121240 | G | Fresenius SE & Co. KGaA; Fenwal Holdings, Inc.; Fresenius SE & Co. KGaA.
20121323 | G | Trimble Navigation Limited; Wells Fargo & Company; Trimble Navigation Limited.
20121360 | G | Valeant Pharmaceuticals International, Inc.; Johnson & Johnson; Valeant Pharmaceuticals International, Inc.
20121372 | G | Kirby Corporation; Allied Marine Industries, Inc.; Kirby Corporation.
09/28/2012
20120910 | G | SAP AG; Ariba, Inc.; SAP AG.
20121375 | G | Google Inc.; Nest Labs, Inc.; Google Inc.
20121377 | G | CP V Landmark, L.P.; Landmark FBO Holdings, LLC; CP V Landmark, L.P.
20121379 | G | Olympus Growth Fund V, L.P.; KPLT Holdings, Inc.; Olympus Growth Fund V, L.P.
20121380 | G | Plains Exploration & Production Company; BP p.l.c.; Plains Exploration & Production Company.
20121381 | G | James R. Ratcliffe; Enterprise Product Partners, L.P.; James R. Ratcliffe.
20121382 | G | Summit Midstream Partners, LLC; Energy Transfer Equity, L.P.; Summit Midstream Partners, LLC.
20121383 | G | Wright Express Corporation; LLR Equity Partners Ill, L.P.; Wright Express Corporation.

For Further Information Contact:

Renee Chapman, Contact Representative or

Theresa Kingsberry, Legal Assistant.

Federal Trade Commission, Premerger Notification Office, Bureau of Competition, Room H-303, Washington, DC 20580, (202) 326-3100.

By direction of the Commission.
Donald S. Clark,
Secretary.

[FR Doc. 2012-24899 Filed 10-10-12; 8:45 am]

BILLING CODE 6750-01-M